DEPARTMENT OF HEALTH AND HUMAN SERVICES

Centers for Disease Control and Prevention

[60Day-09-09AS]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 or send comments to Maryam I. Daneshvar, CDC Acting Reports Clearance Officer, 1600 Clifton Road, MS D-74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Management Information System for Comprehensive Cancer Control Programs—New—National Center for Chronic Disease Prevention and Health Promotion (NCCDPHP), Centers for Disease Control and Prevention (CDC).

Background and Brief Description

In 1994, the CDC, the American Cancer Society, the National Cancer Institute, the American College of Surgeons, the North American Association of Central Cancer Registries, and other public health leaders at the state and national levels began promoting a comprehensive approach to cancer control that would coordinate and integrate cancer prevention and control programs across specific cancer funding boundaries. In 1998, the CDC provided funding to Colorado, Massachusetts, Michigan, North Carolina, Texas, and the Northwest Portland Area Indian Health Board as a pilot to assist with implementation of their existing comprehensive cancer control plans. This pilot provided the foundation for the National Comprehensive Cancer Control Program (NCCCP), which has since grown from six programs to 65. Currently, all 50 states, the District of Columbia, seven tribes/tribal organizations, and seven territories/U.S. Pacific Island jurisdictions receive funding to implement cancer control plans.

Awards to individual applicants are made for a five-year budget period. All funded programs are required to submit continuation applications and semi-annual progress reports consistent with federal requirements that all agencies, in response to the Government Performance and Results Act of 1993, prepare performance plans and collect program-specific performance measures. These data items are listed in the Funding Opportunity Announcement. The data are collected on templates which serve as a guide, but do not standardize the information to be collected. This non-standardized approach to progress reporting results in comprehensive cancer control program reports that vary in content and detail. Because the data are stored as attachments rather than in a database, information cannot be sorted or aggregated electronically to produce summary reports.

CDC's Comprehensive Cancer Control Branch (CCCB), which manages the NCCCP, proposes to develop a database-driven Management Information System (MIS), which will achieve two objectives. First, the MIS will provide an organized source of information about the activities and accomplishments of all funded NCCCP programs. Secondly, the MIS will provide an efficient mechanism for generating state, regional, and national level summary reports to monitor each program's progress in accomplishing goals, and achieving program evaluation and population-based outcomes.

OMB approval for the MIS will be requested for a three-year period. Data reported to CDC through the MIS will be used by CDC to identify training and technical assistance needs, monitor compliance with cooperative agreement requirements, evaluate progress made in achieving program-specific goals, and obtain information needed to respond to Congressional and other inquiries regarding program activities and effectiveness.

Data will be collected electronically twice per year. The burden per response is expected to decrease after respondents become experienced with entering data and the amount of new data to be entered decreases.

There are no costs to respondents other than their time.

Estimated Annualized Burden Hours
Respondents | Number of respondents | Number of responses per respondent | Average burden per response (in hours) | Total burden (in hours)
NCCCP grantees | 65 | 2 | 6 | 780

Dated: February 4, 2009.
Maryam I. Daneshvar,
Acting Reports Clearance Officer, Centers for Disease Control and Prevention.

[FR Doc. E9-2974 Filed 2-11-09; 8:45 am]

BILLING CODE 4163-18-P